DEPARTMENT OF COMMERCE

International Trade Administration

[A-533-809]

Certain Stainless Steel Flanges From India; Extension of Time Limit for Preliminary Results of Antidumping Duty Administrative Review

AGENCY: Import Administration, International Trade Administration, Department of Commerce.

EFFECTIVE DATE: October 10, 2001.

FOR FURTHER INFORMATION CONTACT: Thomas Killiam or Robert James, AD/CVD Enforcement, Office 8, Group III, Import Administration, International Trade Administration, U.S. Department of Commerce, 14th Street and Constitution Avenue, NW, Washington DC 20230; telephone: (202) 482-5222, or (202) 482-0649, respectively.

Statutory Time Limits

Section 751(a)(3)(A) of the Tariff Act of 1930, as amended (the Tariff Act) requires the Department of Commerce (the Department) to make a preliminary determination within 245 days after the last day of the month in which occurs the anniversary of the date of the order, or, if it is not practicable to complete the review within this time period, within 365 days.

Background

On March 22, 2001, the Department published in the Federal Register the notice of initiation of the administrative review of the antidumping duty order on certain stainless steel flanges from India, covering the period February 1, 2000 through January 31, 2001 (Initiation of Antidumping Duty Administrative Reviews and Requests for Revocation in Part, 66 FR 16037, March 22, 2001). The preliminary results are currently due no later than October 31, 2001. The respondents are Echjay Forgings Ltd. (with affiliate Pushpaman), Isibars, Ltd., Panchmahal Steel Ltd., Patheja Forgings & Auto Parts, Ltd., and Viraj Forgings, Ltd.

Extension of Time Limit

The Department has determined that because this review involves complex issues, such as comparison market selection and model definition, it is not practicable to complete the preliminary results of review within the original 245 day time limit mandated by section 751(a)(3)(A) of the Tariff Act and section 351.213(h)(1) of the Department's regulations. Therefore, the Department is extending the time limit for completion of the preliminary results until February 28, 2002 in accordance with section 351.213(h)(2).

Dated: October 2, 2001.
Joseph A. Spetrini,
Deputy Assistant Secretary, AD/CVD Enforcement Group III.

[FR Doc. 01-25406 Filed 10-9-01; 8:45 am]

BILLING CODE 3510-DS-P